DEPARTMENT OF ENERGY

Federal Energy Regulatory Commission

[Docket No. EL07-15-000]

Ontelaunee Power Operating Company, LLC, Complainant, v. Metropolitan Edison Company, Respondent; Notice of Complaint

November 9, 2006.

Take notice that on November 7, 2006, Ontelaunee Power Operating Company, LLC (Ontelaunee) filed a formal complaint against Metropolitan Edison Company (Met Ed) pursuant to section 206 of the Federal Power Act. Ontelaunee states that Met Ed is imposing excessive charges for interconnection facilities that are unjust, unreasonable, unduly discriminatory and, moreover, are inconsistent with the Commission's Interconnection Policy, because Met Ed is refusing to allow Ontelaunee pay off its true interconnection costs as a reasonable lump sum, assessing charges that are not supported by Met Ed's filings with the Commission, improperly imposing operation and maintenance charges on Network Upgrades, charging an excessive capital recovery rate on such charges, and failing to provide transmission credits for facilities that are properly classified as Network Upgrades under the Commission's Interconnection Policy.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on November 27, 2006.

Magalie R. Salas,
Secretary.

[FR Doc. E6-19354 Filed 11-15-06; 8:45 am]

BILLING CODE 6717-01-P